DEPARTMENT OF THE INTERIOR

Bureau of Safety and Environmental Enforcement

30 CFR Part 250

[Docket ID: BSEE-2015-0002; 15XE1700DX EEEE500000 EX1SF0000.DAQ000]

RIN 1014-AA11

Oil and Gas and Sulphur Operations on the Outer Continental Shelf—Blowout Preventer Systems and Well Control

AGENCY: Bureau of Safety and Environmental Enforcement (BSEE), Interior.

ACTION: Notice of proposed rulemaking; extension of comment period.

SUMMARY: The BSEE is extending the public comment period on the Notice of proposed rulemaking entitled “Oil and Gas and Sulphur Operations on the Outer Continental Shelf—Blowout Preventer Systems and Well Control,” which was published in the Federal Register on April 17, 2015. The original public comment period would have ended on June 16, 2015. However, BSEE received requests from various stakeholders to extend the comment period. The BSEE reviewed the extension requests and determined that a 30-day comment period extension—to July 16, 2015—is appropriate.

DATES: The comment period for the notice of proposed rulemaking published in the Federal Register on April 17, 2015 (80 FR 21504), is extended. Written comments must be received by the extended due date of July 16, 2015. The BSEE may not fully consider comments received after this date.

ADDRESSES: You may submit comments on the proposed rulemaking by any of the following methods. Please use the Regulation Identifier Number (RIN) 1014-AA11 as an identifier in your message.

• Federal eRulemaking Portal: http://www.regulations.gov. In the entry titled Enter Keyword or ID, enter BSEE-2015-0002 then click search. Follow the instructions to submit public comments and view supporting and related materials available for this rulemaking. The BSEE may post all submitted comments in their entirety.

• Mail or hand-carry comments to the Department of the Interior (DOI); Bureau of Safety and Environmental Enforcement; Attention: Regulations and Standards Branch; 45600 Woodland Road, Sterling, Virginia 20166. Please reference “Oil and Gas and Sulphur Operations on the Outer Continental Shelf—Blowout Preventer Systems and Well Control, 1014-AA11” in your comments and include your name and return address. Please note that this address for BSEE is new; however, any comments already submitted to BSEE's former address (381 Elden St., Herndon, VA 20171) do not need to be resubmitted to the new address.

• Public Availability of Comments—Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Kirk Malstrom, Regulations and Standards Branch, 202-258-1518, Kirk.Malstrom@bsee.gov.

SUPPLEMENTARY INFORMATION: The BSEE published a notice of proposed rulemaking on Blowout Preventer Systems and Well Control on April 17, 2015 (80 FR 21504). This proposed rule is intended to consolidate equipment and operational requirements that are common to other subparts pertaining to offshore oil and gas drilling, completions, workovers, and decommissioning. This proposed rule would focus, at this time, on blowout preventer (BOP) requirements, including incorporation of industry standards and revision of existing regulations. The proposed rule would also include reforms in the areas of well design, well control, casing, cementing, real-time well monitoring, and subsea containment. The proposed rule would address and implement multiple recommendations resulting from various investigations of the Deepwater Horizon incident. This proposed rule would also incorporate guidance from several Notices to Lessees and Operators (NTLs) and revise provisions related to drilling, workover, completion, and decommissioning operations to enhance safety and environmental protection.

After publication of the proposed rule, BSEE received requests from various stakeholders asking BSEE to extend the comment period on the proposed rule. The majority of those requests sought extensions of 120 days, which would triple the length of the original 60-day comment period. One comment requested a 30-day extension. BSEE also received a written comment from another stakeholder urging BSEE not to extend the comment period because the proposed rule has been in development since the Deepwater Horizon incident, is based on recommendations resulting from that incident, and represents a critical regulatory improvement that should be finalized without delay.

The BSEE has considered those requests and has determined that extending the original 60-day comment period by an additional 30 days will provide sufficient additional time for review of and comment on the proposal without unduly delaying a final rulemaking decision. Accordingly, written comments must be submitted by the extended due date of July 16, 2015. The BSEE may not fully consider comments received after this date.

Dated: May 28, 2015.
Janice M. Schneider,
Assistant Secretary, Land and Minerals Management.

[FR Doc. 2015-13499 Filed 6-2-15; 8:45 am]

BILLING CODE 4310-VH-P